DEPARTMENT OF LABOR

Employment and Training and Administration

[NAFTA-5658]

Perceptron Incorporated, Plymouth, MI; Notice of Termination of Investigation

Pursuant to section 221 of the Trade Act of 1974, an investigation was initiated on December 11, 2001, in response to a worker petition which was filed by a company official on behalf of workers at Perceptron, Incorporated, Plymouth, Michigan.

The petitioner has requested that the petition be withdrawn. Consequently, further investigation in this case would serve no purpose, and the investigation has been terminated.

Signed in Washington, DC, this 18th day of January, 2002.
Linda G. Poole,
Certifying Officer, Division of Trade Adjustment Assistance.

[FR Doc. 02-2331 Filed 1-30-02; 8:45 am]

BILLING CODE 4510-30-M